DEPARTMENT OF TRANSPORTATION

Federal Aviation Administration

Executive Committee of the Aviation Rulemaking Advisory Committee; Meeting

AGENCY: Federal Aviation Administration (FAA), DOT.

ACTION: Notice of meeting.

SUMMARY: The FAA is issuing this notice to advise the public of a meeting of the Executive Committee of the Federal Aviation Administration Aviation Rulemaking Advisory Committee.

DATES: The meeting is scheduled for November 13, 2003, at 10 a.m.

ADDRESS: The meeting will be held at Federal Aviation Administration, 800 Independence Avenue, SW., Washington, DC 20591, 10th floor, McCracken Room.

FOR FURTHER INFORMATION CONTACT: Gerri Robinson, Federal Aviation Administration, 800 Independence Avenue SW., Washington, DC 20591, telephone (202) 267-9678; fax (202) 267-5075; e-mail Gerri.Robinson@faa.gov.

SUPPLEMENTARY INFORMATION: Under section 10(a)(2) of the Federal Advisory Committee Act (Pub. L. 92-463; 5 U.S.C. App. II), notice is therefore given of a meeting of the Executive Committee to be held on November 13, 2003, at the Federal Aviation Administration, 800 Independence Avenue SW., Washington, DC 20591. The agenda will include:

• New Executive Committee Leadership

• Air Traffic Issue Area

• Committee Schedule for 2004

• Future of ARAC

Aviation Rulemaking Advisory Committee vs. Aviation Rulemaking Committees (ARCs)

FY 04 Full ARAC membership meeting

• Submission of electronic and paper recommendations to Federal Aviation Administration

• Submission of working group meeting dates for ARAC calendar

• Issue Area Status Reports from Assistant Chairs

• Remarks from other Executive Committee members

Attendance is open to the interested public but is limited to the space available. The FAA will arrange teleconference ability for individuals wishing to join in by teleconference if we receive that notice by November 7, 2003. Arrangements to join in by teleconference can be made by contacting the person listed in the FOR FURTHER INFORMATION CONTACT section. Callers outside the Washington metropolitan area will be responsible for paying long-distance charges.

The public must arrange by November 7 to present verbal statements at the meeting. The public may present written statements to the executive committee by providing 25 copies to the Executive Director, or by bringing the copies to the meeting.

If you are in need of help or require a reasonable accommodation for this meeting, please contact the person listed under the heading FOR FURTHER INFORMATION CONTACT.

Issued in Washington, DC, on October 24, 2003.
Ida M. Klepper,
Acting Executive Director, Aviation Rulemaking Advisory Committee.

[FR Doc. 03-27259 Filed 10-28-03; 8:45 am]

BILLING CODE 4910-13-P